DEPARTMENT OF THE INTERIOR

Bureau of Indian Affairs

Indian Gaming

AGENCY: Bureau of Indian Affairs, Interior.

ACTION: Notice of approved Tribal-State Compact.

SUMMARY: Pursuant to Section 11 of the Indian Gaming Regulatory Act if 1988 (IGRA), Public Law 100-497, 25 U.S.C 2710, the Secretary of the Interior shall publish, in the Federal Register, notice of approved Tribal-State Compacts for the purpose of engaging in Class III gaming activities on Indian lands. The Assistant Secretary—Indian Affairs, Department of the Interior, through his delegated authority, has approved the Tribal-State Compact Between the Chitimacha Tribe of Louisiana and the State of Louisiana, which was executed on July 6, 2000. This Compact was approved in its entirety, with the exception of Section 12(C). Section 2(C) of the Compact makes it clear that if one provision of the Compact violates IGRA, federal law or our trust responsibility, and therefore is disapproved, the remainder of the Compact shall remain in effect.

DATES: This action is effective September 11, 2000.

FOR FURTHER INFORMATION CONTACT: George T. Skibine, Director, Office of Indian Gaming Management, Bureau of Indian Affairs, Washington , DC 20240.

Dated: August 24, 2000.
Kevin Gover,
Assistant Secretary—Indian Affairs.

[FR Doc. 00-23229 Filed 9-8-00; 8:45 am]

BILLING CODE 4310-02-P